DEPARTMENT OF EDUCATION

Migrant Education Program Consortium Incentive Grant Program

AGENCY: Office of Elementary and Secondary Education, Department of Education.

ACTION: Notice of proposed priority.

SUMMARY: The Assistant Secretary for Elementary and Secondary Education proposes to add an eighth absolute priority to the seven absolute priorities for the Migrant Education Program (MEP) Consortium Incentive Grant (CIG) Program established in the notice of final requirements published in the Federal Register on March 3, 2004 (69 FR 10110) (Notice). The Assistant Secretary may use this proposed absolute priority and the absolute priorities established in the Notice for competitions in fiscal year (FY) 2008 and later years. We take this action to give State educational agencies the option to propose consortium arrangements that would address the educational attainment needs of out-of-school migratory youth whose education is interrupted.

DATES: We must receive your comments on or before December 20, 2007.

ADDRESSES: Address all comments about this proposed priority to Lisa Gillette, U.S. Department of Education, 400 Maryland Avenue, SW., Room 3E253, LBJ, Washington, DC 20202-6135. If you prefer to send your comments through the Internet, use the following address: lisa.gillette@ed.gov.

FOR FURTHER INFORMATION CONTACT: Lisa Gillette. Telephone: (202) 205-0316 or via Internet: lisa.gillette@ed.gov.

If you use a telecommunications device for the deaf (TDD), call the Federal Relay Service (FRS) at 1-800-877-8339.

Individuals with disabilities can obtain this document in an alternative format (e.g., Braille, large print, audiotape, or computer diskette) on request to the contact person listed under FOR FURTHER INFORMATION CONTACT.

SUPPLEMENTARY INFORMATION:

Invitation to Comment

We invite you to submit comments regarding this proposed priority.

We invite you to assist us in complying with the specific requirements of Executive Order 12866 and its overall requirement of reducing regulatory burden that might result from this proposed priority. Please let us know of any further opportunities we should take to reduce potential costs or increase potential benefits while preserving the effective and efficient administration of the program.

During and after the comment period, you may inspect all public comments about this proposed priority in room 3E253 at the U.S. Department of Education, 400 Maryland Avenue, SW., LBJ, Washington, DC, between the hours of 8:30 a.m. and 4 p.m., Eastern time, Monday through Friday of each week except Federal holidays.

Assistance to Individuals With Disabilities in Reviewing the Rulemaking Record

On request, we will supply an appropriate aid, such as a reader or print magnifier, to an individual with a disability who needs assistance to review the comments or other documents in the public rulemaking record for this proposed priority. If you want to schedule an appointment for this type of aid, please contact the person listed under FOR FURTHER INFORMATION CONTACT.

Background

The MEP CIG Program is authorized under section 1308(d) of the Elementary and Secondary Education Act of 1965, as amended by the No Child Left Behind Act of 2001 (ESEA). The CIG Program provides, on a competitive basis, incentive grants to the State educational agencies (SEAs) receiving MEP Basic Formula Grant awards that participate in high-quality consortium arrangements with another State or appropriate entity. The purpose of these grants is to improve the delivery of services to migratory children whose education is interrupted.

In the Notice, the Department established seven absolute priorities that promote key national objectives. SEAs that sought funding under the CIG had to propose a consortium that addressed one or more of these absolute priorities. These seven absolute priorities are:

(1) Services designed to improve the proper and timely identification and recruitment of eligible migratory children whose education is interrupted;

(2) Services designed (based on a review of scientifically based research) to improve the school readiness of pre-school-aged migratory children whose education is interrupted;

(3) Services designed (based on a review of scientifically based research) to improve the reading proficiency of migratory children whose education is interrupted;

(4) Services designed (based on a review of scientifically based research) to improve the mathematics proficiency of migratory children whose education is interrupted;

(5) Services designed (based on a review of scientifically based research) to decrease the dropout rate of migratory students whose education is interrupted and improve their high school completion rate;

(6) Services designed (based on a review of scientifically based research) to strengthen the involvement of migratory parents in the education of migratory students whose education is interrupted; and

(7) Services designed (based on a review of scientifically based research) to expand access to innovative educational technologies intended to increase the academic achievement of migratory students whose education is interrupted.

In the past few years, the Department has noticed an increasing trend in the numbers of out-of-school migratory youth (typically ages 15-22) eligible for the MEP. Often, these young men and women have received limited schooling or have dropped out of high school before earning their diploma or general education development (GED) certificate. Due to their long work hours, the short periods of time that they remain in an area, and the remote locations, away from educational facilities, where they live and work, these out-of-school migratory youth are often the most difficult for SEAs to serve.

The seven absolute priorities established in 2004 do not specifically authorize CIG Program awards for consortium arrangements designed to improve the educational attainment of these out-of-school migratory youth. Given the particular educational needs of this sector of the migrant population, the Department proposes a new, eighth absolute priority under the CIG Program for consortium arrangements that would address out-of-school migratory youth whose education is interrupted. Thus, the proposed change would allow SEAs, based on the needs of migratory children in their respective consortium States, to seek CIG Program funding for consortium activities that would address any one or more of these eight absolute priorities.

We will announce the final priority in a notice in the Federal Register. We will determine the final priority after considering responses to this notice and other information available to the Department. This notice does not preclude us from proposing or funding additional priorities, subject to meeting applicable rulemaking requirements. This final priority will be in addition to the seven absolute priorities published in the Notice.

Note: This notice does not solicit applications. In any year in which we choose to use this proposed priority, we invite applications through a notice in the Federal Register.

Priority: Services designed (based on a review of scientifically based research) to improve the educational attainment of out-of-school migratory youth whose education is interrupted.

Executive Order 12866

This notice of proposed priority has been reviewed in accordance with Executive Order 12866. Under the terms of the order, we have assessed the potential costs and benefits of this regulatory action.

The potential costs associated with the notice of proposed priority are those resulting from statutory requirements and those we have determined as necessary for administering this program effectively and efficiently.

In assessing the potential costs and benefits—both quantitative and qualitative—of this notice of proposed priority, we have determined that the benefits of the proposed priority justify the costs.

We have also determined that this regulatory action does not unduly interfere with State, local, and tribal governments in the exercise of their governmental functions.

Summary of potential costs and benefits: The addition of this proposed absolute priority will not increase the costs to the SEAs applying for consortium awards. The CIG Program is a competitive program for which SEAs may choose to apply. The only eligible applicants for the CIG Program are SEAs receiving MEP Basic State Formula grants under Title I, Part C of the ESEA. Under the MEP Basic State Formula program, SEAs are required to promote interstate and intrastate coordination of services for migratory children. Under the CIG Program, successful applicants receive awards in the form of supplements to their MEP awards. SEAs may use these newly awarded funds to pay for any costs they incur under the MEP—including costs of consortium activities described in their CIG Program applications.

If finalized, this absolute priority will not create any new costs. In preparing the application package for the CIG Program, the Department estimated that SEAs would prepare a total of 15 applications and expend, over a two-year application cycle, 50.67 hours per application. The Department believes that the proposed absolute priority will not add to the costs of implementing the MEP. SEAs should take no more time to prepare a CIG application that addresses the proposed absolute priority than to prepare an application that addresses one of the seven existing absolute priorities. Further, the Department does not anticipate that the addition of this absolute priority will generate an increase in the number of applications it will receive.

On the other hand, the proposed absolute priority will provide significant benefits. It will give SEAs the opportunity to seek these supplemental MEP funds on the basis of consortium activities that address an important new area—the educational attainment of out-of-school migratory youth whose education is interrupted. In this regard, out-of-school migratory youth typically have received limited schooling or have dropped out of high school without attaining a high school diploma or GED certificate. Adding this new absolute priority to the seven existing absolute priorities for the CIG Program can thereby help out-of-school migratory youth improve their educational attainment.

Intergovernmental Review

This program is subject to Executive Order 12372 and the regulations in 34 CFR part 79. One of the objectives of the Executive order is to foster an intergovernmental partnership and a strengthened federalism. The Executive order relies on processes developed by State and local governments for coordination and review of proposed Federal financial assistance.

This document provides early notification of our specific plans and actions for this program.

Electronic Access to This Document

You may view this document, as well as all other Department of Education documents published in the Federal Register, in text or Adobe Portable Document Format (PDF) on the Internet at the following site: http://www.ed.gov/news/fedregister.

To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: http://www.gpoaccess.gov/nara/index.html.

(Catalog of Federal Domestic Assistance Number 84.144 Migrant Education Coordination Program).

Program Authority: 20 U.S.C. 6398(d).

Dated: November 5, 2007.
Kerri L. Briggs,
Assistant Secretary for Elementary and Secondary Education.

[FR Doc. E7-22680 Filed 11-19-07; 8:45 am]

BILLING CODE 4000-01-P